DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Comprehensive Regional Decision Support Framework to Prioritize Sites for Coral Reef Conservation in the U.S. Virgin Islands: Survey of Professional SCUBA Divers.

OMB Control Number: 0648-xxxx.

Form Number(s): NA.

Type of Request: Regular submission (request for a new information collection).

Number of Respondents: 238.

Average Hours per Response: 30 minutes.

Burden Hours: 119.

Needs and Uses: This request is for a new data collection to benefit marine resource managers in the U.S. Virgin Islands (USVI). The National Ocean Service (NOS) proposes to collect data on the resource usage patterns, knowledge and values of the professional SCUBA diving community relative to coral reefs in the USVI. Data are needed to support conservation and management goals as defined under the Coral Reef Conservation Act (CRCA) (16 U.S.C. 6401 et seq.). The purpose of the CRCA is to advance conservation of coral reef ecosystems in the U.S. and Territories. Specifically, the Act requires the federal government to produce sound scientific information on the condition of coral reef ecosystems and threats to them, so that reefs may be better preserved, sustained and restored. The present data collection is one component of a larger project to produce a science-based decision support tool that will be used by resource managers to prioritize coral reefs in the USVI for the purposes of management under the CRCA.

Researchers propose to collect information from the professional SCUBA diving community in the USVI, who are an important stakeholder group with much knowledge about this marine ecosystem. Information will be gathered from this community because of their experience diving on focal coral reefs and reliance on such ecosystems for their livelihood. The survey will ascertain which coral reef areas are needed/used most by persons in the professional SCUBA diving community. It will gather divers' opinions on the status and health of these coral reefs. Finally, the survey will collect information on the demographic characteristics of professional SCUBA diving community, along with the values they have for local coral reefs.

Data gathered will be used to identify, rank and describe key characteristics of the coral reefs that are most important to the professional SCUBA diving community in the USVI, as well as their perception of reef status and resilience. The survey data will become one of several layers of information combined in a larger effort to objectively map the important reefs in the USVI. Knowledge of the locations of priority reefs, together with an assessment of the threats to those reefs, will provide information to prioritize management actions.

Affected Public: Business or other for-profit organizations; individuals or households.

Frequency: One time.

Respondent's Obligation: Voluntary.

This information collection request may be viewed at reginfo.gov. Follow the instructions to view Department of Commerce collections currently under review by OMB.

Written comments and recommendations for the proposed information collection should be sent within 30 days of publication of this notice to OIRA_Submission@omb.eop.gov or faxed to (202) 395-5806.

Dated: May 2, 2014.
Gwellnar Banks,
Management Analyst, Office of the Chief Information Officer.

[FR Doc. 2014-10547 Filed 5-7-14; 8:45 am]

BILLING CODE 3510-JE-P